NATIONAL SCIENCE FOUNDATION

Notice of Intent To Seek Approval To Establish an Information Collection

AGENCY: National Science Foundation.

ACTION: Notice and Request for Comments.

SUMMARY: In compliance with the requirement of Section 3506(c)(2)(A) of the Paperwork Reduction Act of 1995 for opportunity for public comment on proposed data collection projects, the National Science Foundation (NSF) will publish periodic summaries of proposed projects.

Comments are invited on (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

DATES: Written comments on this notice must be received within 60 days of this notice to be assured of consideration. Comments received after that date will be considered to the extent practicable.

FOR ADDITIONAL INFORMATION OR COMMENTS: Contact Catherine Hines, Acting Reports Clearance Officer, National Science Foundation, 4201 Wilson Boulevard, Suite 295, Arlington, Virginia 22230; telephone (703) 292-4414; or send e-mail to chines@nsf.gov. Individuals who use a telecommunications device for the deaf (TDD) may call the Federal Information Relay Service (FIRS) at 1-800-877-8339 between 8 a.m. to 8 p.m., Eastern time, Monday through Friday. You also may obtain a copy of the date collection instrument and instructions from Ms. Hines.

SUPPLEMENTARY INFORMATION: Title of Collection: IWGSC Scientific Collections Survey.

OMB Approval Number: 3145-New.

Expiration Date of Approval: Not Applicable.

Type of Request: Intent to seek approval to establish an information collection for three years.

Proposed Project: The Office of Science and Technology Policy (OSTP) has requested an assessment of information regarding all object-based scientific collections maintained or financially supported by the Federal government or used in research supported by the Federal government, and ancillary materials directly related to them. The Interagency Working Group on Scientific Collections (IWGSC), established in September 2005 by the Committee on Science of the National Science and Technology Council, is working with the IDA Science and Technology Policy Institute (STPI) to collect the information through an online survey. As part of the IWGSC, the National Science Foundation (NSF) has agreed to survey institutions with object-based scientific collections that receive support from the NSF or that are used by researchers that receive support from the NSF.

Estimate of Burden: The Foundation estimates that, on average, 40 minutes per respondent will be required to complete the survey, for a total of 400 hours for all respondents. Respondents from the approximately 600 institutions that receive NSF support for object-based collections, or whose object-based collections are used by researchers that receive NSF support for object-based collections, or whose object-based collections are used by researchers that receive NSF support, will complete this survey once.

Respondents: Not-for-profits.

Estimated Number of Responses: 600.

Estimated Total Annual Burden on Respondents: 400 hours.

Dated: April 13, 2006.
Catherine Hines,
Acting Reports Clearance Officer, National Science Foundation.

[FR Doc. 06-3691 Filed 4-18-06; 8:45 am]

BILLING CODE 7555-01-M